ENVIRONMENTAL PROTECTION AGENCY

[FRL-8759-8]

Predicting Future Introductions of Nonindigenous Species to the Great Lakes

AGENCY: Environmental Protection Agency (EPA).

ACTION: Notice of availability.

SUMMARY: EPA is announcing the availability of a final report titled, “Predicting Future Introductions of Nonindigenous Species to the Great Lakes” (EPA/600/R-08/066F). The report was prepared by the National Center for Environmental Assessment (NCEA), within EPA's Office of Research and Development (ORD). The Great Lakes of the United States have been subjected to adverse ecological and economic impacts from introduced species. Ballast water discharge from commercial shipping is the major means by which these nonindigenous species have entered the Great Lakes. This assessment demonstrates that successful invasions are best predicted by knowing the propagule pressure (i.e., the number of larvae/individuals entering a new area) and habitat matching (i.e., how similar is the invaded area to the native range of the species). The purpose of the report is to help resource managers focus monitoring activities on particular nonindigenous species at ports that are most at risk of invasion.

DATES: This document will be available on or about January 5, 2009.

ADDRESSES: The document will be available electronically through the NCEA Web site at http://www.epa.gov/ncea. A limited number of paper copies will be available from EPA's National Service Center for Environmental Publications (NSCEP), P.O. Box 42419, Cincinnati, OH 45242; telephone: 1-800-490-9198; facsimile: 301-604-3408; e-mail: nscep@bps-lmit.com. Please provide your name, your mailing address, the title and the EPA number of the requested publication.

FOR FURTHER INFORMATION CONTACT: The Information Management Team, National Center for Environmental Assessment (8601P), U.S. Environmental Protection Agency, 1200 Pennsylvania Avenue, NW., Washington, DC 20460. Telephone: 703-347-8561; fax: 703-347-8691; e-mail: nceadc.comment@epa.gov.

Dated: December 22, 2008.
Rebecca Clark,
Acting Director, National Center for Environmental Assessment.

[FR Doc. E8-31295 Filed 1-2-09; 8:45 am]

BILLING CODE 6560-50-P